NATIONAL FOUNDATION ON THE ARTS AND THE HUMANITIES

Meetings of Humanities Panel

AGENCY: National Endowment for the Humanities.

ACTION: Notice of meetings.

SUMMARY: Pursuant to section 10(a)(2) of the Federal Advisory Committee Act (5 U.S.C. App.), notice is hereby given that 16 meetings of the Humanities Panel will be held during March, 2013 as follows. The purpose of the meetings is for panel review, discussion, evaluation, and recommendation of applications for financial assistance under the National Foundation on the Arts and Humanities Act of 1965 (20 U.S.C. 951-960, as amended).

DATES: See Supplementary Information section for meeting dates.

ADDRESSES: The meetings will be held at the Old Post Office Building, 1100 Pennsylvania Ave., NW., Washington, DC 20506. See Supplementary Information section for meeting room numbers.

FOR FURTHER INFORMATION CONTACT: Lisette Voyatzis, Committee Management Officer, 1100 Pennsylvania Ave. NW., Room 529, Washington, DC 20506, or call (202) 606-8322. Hearing-impaired individuals are advised that information on this matter may be obtained by contacting the National Endowment for the Humanities' TDD terminal at (202) 606-8282.

SUPPLEMENTARY INFORMATION:

Meetings

1. Date: March 12, 2013.

Time: 8:30 a.m. to 5:00 p.m.

Room: 315.

This meeting will discuss applications for the Collaborative Research grant program on the subject of New World Archaeology and Anthropology, submitted to the Division of Research Programs.

2. Date: March 13, 2013.

Time: 8:30 a.m. to 5:00 p.m.

Room: 315.

This meeting will discuss applications for the Scholarly Editions grant program on the subject of Literature, submitted to the Division of Research Programs.

3. Date: March 18, 2013.

Time: 8:30 a.m. to 5:00 p.m.

Room: 421.

This meeting will discuss applications for the America's Media Makers Production grant program on the subject of U.S. History of the eighteenth and nineteenth centuries, submitted to the Division of Public Programs.

4. Date: March 19, 2013.

Time: 8:30 a.m. to 5:00 p.m.

Room: 421.

This meeting will discuss applications for the America's Historical & Cultural Organizations Implementation grant program on the subject of the U.S. South and African American History, submitted to the Division of Public Programs.

5. Date: March 19, 2013.

Time: 8:30 a.m. to 5:00 p.m.

Room: 415.

This meeting will discuss applications for the Sustaining Cultural Heritage Collections grant program, submitted to the Division of Preservation and Access.

6. Date: March 19, 2013.

Time: 8:30 a.m. to 5:00 p.m.

Room: 315.

This meeting will discuss applications for the Scholarly Editions grant program on the subject of American History, submitted to the Division of Research Programs.

7. Date: March 20, 2013,

Time: 8:30 a.m. to 5:00 p.m.

Room: 315.

This meeting will discuss applications for the Collaborative Research grant program on the subject of Old World Archaeology and Classics, submitted to the Division of Research Programs.

8. Date: March 21, 2013.

Time: 8:30 a.m. to 5:00 p.m.

Room: 415.

This meeting will discuss applications for the Sustaining Cultural Heritage Collections grant program, submitted to the Division of Preservation and Access.

9. Date: March 21, 2013.

Time: 8:30 a.m. to 5:00 p.m.

Room: 315.

This meeting will discuss applications for the Scholarly Editions grant program on the subject of History and Literature, submitted to the Division of Research Programs.

10. Date: March 21, 2013.

Time: 8:30 a.m. to 5:00 p.m.

Room: 421.

This meeting will discuss applications for the America's Media Makers Production grant program on the subjects of African American, Latino, and Native American History, submitted to the Division of Public Programs.

11. Date: March 26, 2013.

Time: 8:30 a.m. to 5:00 p.m.

Room: 315.

This meeting will discuss applications for the Collaborative Research grant program on the subject of the Americas, submitted to the Division of Research Programs.

12. Date: March 27, 2013.

Time: 8:30 a.m. to 5:00 p.m.

Room: 421.

This meeting will discuss applications for the America's Historical & Cultural Organizations Implementation grant program on the subject of Art, submitted to the Division of Public Programs.

13. Date: March 27, 2013.

Time: 8:30 a.m. to 5:00 p.m.

Room: 315.

This meeting will discuss applications for the Scholarly Editions grant program on the subject of Philosophy and Religion, submitted to the Division of Research Programs.

14. Date: March 28, 2013.

Time: 8:30 a.m. to 5:00 p.m.

Room: 415.

This meeting will discuss applications for the Sustaining Cultural Heritage Collections grant program, submitted to the Division of Preservation and Access.

15. Date: March 28, 2013.

Time: 8:30 a.m. to 5:00 p.m.

Room: 421.

This meeting will discuss applications for the America's Historical & Cultural Organizations Implementation grant program on the subject of U.S. History and the East, submitted to the Division of Public Programs.

16. Date: March 28, 2013.

Time: 8:30 a.m. to 5:00 p.m.

Room: 315.

This meeting will discuss applications for the Collaborative Research grant program on the subject of History and Literature, submitted to the Division of Research Programs.

Because these meetings will include review of personal and/or proprietary financial and commercial information given in confidence to the agency by grant applicants, the meetings will be closed to the public pursuant to sections 552b(c)(4) and 552b(c)(6) of Title 5 U.S.C., as amended. I have made this determination pursuant to the authority granted me by the Chairman's Delegation of Authority to Close Advisory Committee Meetings dated July 19, 1993.

Dated: February 11, 2013.
Lisette Voyatzis,
Committee Management Officer.

[FR Doc. 2013-03580 Filed 2-14-13; 8:45 am]

BILLING CODE 7536-01-P